DEPARTMENT OF COMMERCE

Foreign-Trade Zones Board

[Docket 37-2006]

Foreign-Trade Zone 98 Birmingham, Alabama, Application for Subzone Status, NACCO Materials Handling Group, Inc., Plant (Forklift Truck Components), Sulligent, Alabama

An application has been submitted to the Foreign-Trade Zones Board (the Board) by the City of Birmingham, grantee of FTZ 98, requesting special-purpose subzone status for the forklift truck components manufacturing facility of NACCO Materials Handling Group, Inc. (NMHG), located in Sulligent, Alabama. The application was submitted pursuant to the provisions of the Foreign-Trade Zones Act, as amended (19 U.S.C. 81a-81u), and the regulations of the Board (15 CFR Part 400). It was formally filed on August 22, 2006.

The NMHG plant (68 acres/301,000 sq.ft.) is located in Lamar County on U.S. Highway 278 East, in Sulligent, Alabama, about 100 miles west of Birmingham. The facility (550 employees) is used to produce component parts, transmissions and drive axles for forklift trucks (Class I through Class V) powered by gasoline, propane, or electric motors. The manufacturing process at the facility involves machining, cutting, sawing, shearing, milling, welding, bending, and assembly with a total annual production value of approximately $150 million at full capacity. Components purchased from abroad (up to 20% of finished forklift truck value) used in manufacturing include: parts of forklift trucks, engines, parts of engines, control panels, control centers, switchgear assemblies, distribution boards, printed circuits, torque converters, parts of transmissions, gears, bearing housings, electric motors, hydraulic pumps, crankshafts, camshafts, transmission shafts, relays, flywheels, pulleys, tubes/pipes, ignition parts, harnesses, catalytic converters, filters, heat exchangers, hydraulic cylinders and related fluid power components, parts of valves and check appliances, fuel injection pumps, electromagnetic couplings/clutches/brakes, wire, electric conductors/converters, steering components, caps/lids, parts of pumps/compressors, starters, bearings, floor coverings, electrical connectors and related assemblies, wiring harnesses, fasteners, couplings/u-joints, chains, gaskets, generators, carbon brushes, transformers, rotors, stators, power supplies, converters, spark plugs, ignition coils and distributors, starter motors, relays, switches, horns, capacitors, resistors, fuses, controllers, circuit breakers and protectors, conductors, lamps/lighting equipment, wheel hubs, and parts of seats (duty rate range: free - 9.0%).

FTZ procedures would exempt NMHG from Customs duty payments on the foreign components used in export production. On its domestic sales and exports to NAFTA markets, the company would be able to choose the duty rate that applies to forklift truck components (duty free) for the foreign-sourced inputs noted above. The forklift truck duty rate (free) would apply if the finished components are shipped via zone-to-zone transfer to U.S. forklift truck assembly plants with subzone status. Duties would be deferred or reduced on foreign production equipment admitted to the proposed subzone until such time as it becomes operational. The application indicates that subzone status would help improve the facility's international competitiveness.

In accordance with the Board's regulations, a member of the FTZ Staff has been designated examiner to investigate the application and report to the Board.

Public comment is invited from interested parties. Submissions (original and 3 copies) shall be addressed to the Board's Executive Secretary at the address below. The closing period for their receipt is October 30, 2006. Rebuttal comments in response to material submitted during the foregoing period may be submitted during the subsequent 15-day period to November 13, 2006.

A copy of the application and accompanying exhibits will be available for public inspection at each of the following locations: U.S. Department of Commerce Export Assistance Center, Suite 707, 950 22nd Street North, Birmingham, Alabama 35203-5309; and, Office of the Executive Secretary, Foreign-Trade Zones Board, Room 1115, U.S. Department of Commerce, 1401 Constitution Avenue, NW, Washington, District of Columbia 20230-0002; Tel: (202) 482-2862.

Dated: August 22, 2006.
Andrew McGilvray,
Acting Executive Secretary.

[FR Doc. E6-14338 Filed 8-28-06; 8:45 am]

BILLING CODE 3510-DS-S